NUCLEAR REGULATORY COMMISSION

Advisory Committee on Reactor Safeguards

Meeting of the Plant Operations and Fire Protection Subcommittee; Notice of Meeting

The ACRS Subcommittee on Plant Operations & Fire Protection will hold a meeting on March 31, 2009, at 11545 Rockville Pike, Rockville, Maryland, Room T2-B3.

The entire meeting will be open to public attendance.

The agenda for the subject meeting shall be as follows: March 31, 2009-8:30 a.m.-4:30 p.m.

The Subcommittee will discuss the Safety Evaluation Report related to the operation of Watts Bar Nuclear Plant, Unit 2. The Subcommittee will hear presentations by and hold discussions with representatives of the NRC staff, Tennessee Valley Authority, and other interested persons regarding this matter. The Subcommittee will gather information, analyze relevant issues and facts, and formulate proposed positions and actions, as appropriate, for deliberation by the full Committee.

Members of the public desiring to provide oral statements and/or written comments should notify the Designated Federal Official, Ms. Maitri Banerjee (telephone 301-415-6973) five days prior to the meeting, if possible, so that appropriate arrangements can be made. Electronic recordings will be permitted. Detailed procedures for the conduct of and participation in ACRS meetings were published in the Federal Register on October 6, 2008, (73FR 58268-58269).

Further information regarding this meeting can be obtained by contacting the Designated Federal Official between 7 a.m. and 4:45 p.m. (ET). Persons planning to attend this meeting are urged to contact the above named individual at least two working days prior to the meeting to be advised of any potential changes to the agenda.

Dated: March 5, 2009.
Cayetano Santos,
Chief, Reactor Safety Branch A, Advisory Committee on Reactor Safeguards.

[FR Doc. E9-5263 Filed 3-10-09; 8:45 am]

BILLING CODE 7590-01-P